OFFICE OF THE UNITED STATES TRADE REPRESENTATIVE

Additional Tariff-Rate Quota Volume for Refined Sugar From Canada Under the USMCA

AGENCY: Office of the United States Trade Representative.

ACTION: Notice.

SUMMARY: The calendar year 2020 in-quota quantity of the tariff-rate quota (TRQ) for imported refined sugar from Canada is increasing pursuant to the United States-Mexico-Canada Agreement (USMCA or Agreement) and the April 3, 2020 announcement by the U.S. Secretary of Agriculture (Secretary) to permit, at in-quota tariff rates, imports of refined sugar, other than specialty sugar, above the quantities made available at those rates pursuant to U.S. commitments under the World Trade Organization (WTO) Agreement and other trade agreements.

DATES: The changes made by this notice are applicable as of July 1, 2020.

FOR FURTHER INFORMATION CONTACT: Erin Nicholson, Office of Agricultural Affairs, at erin.h.nicholson@ustr.eop.gov or at (202) 395-9419.

SUPPLEMENTARY INFORMATION: On June 12, 2017 (82 FR 23699), the President announced his intention to commence negotiations with Canada and Mexico to modernize the North American Free Trade Agreement (NAFTA). On November 30, 2018, the Governments of the United States, Mexico, and Canada (the Parties) signed the protocol replacing NAFTA with the USMCA. On December 10, 2019, the Parties signed the protocol of amendment to the USMCA. On January 29, 2020, the President signed into law the United States-Mexico-Canada Agreement Implementation Act (Pub. L. 116-113) (Implementation Act), through which Congress approved the USMCA. On July 1, 2020, the USMCA will enter into force.

The Schedule of the United States to Annex 2-B of the Agreement establishes a TRQ for imports of refined sugar from Canada, set forth in paragraph 14 of Appendix 2. Paragraph 14(c) provides for an increase in the in-quota quantity of the TRQ for refined sugar in any year in which the Secretary makes a determination to permit the importation into the United States at in-quota tariff rates of additional quantities of refined sugar, other than specialty sugar, above the quantities made available at those rates pursuant to its commitments under the WTO Agreement and other trade agreements. According to paragraph 14(c), this increase for the refined sugar TRQ for Canada is equal to 20 percent of the additional quantities determined by the Secretary.

Pursuant to Note 9 to Subchapter XXIII of Chapter 98 of the Harmonized Tariff Schedule of the United States (HTSUS), the Office of the U.S. Trade Representative (USTR) publishes a determination in the Federal Register of this additional quantity for any such year.

On April 3, 2020 (85 FR 18913), the Secretary announced an additional in-quota quantity of the TRQ for refined sugar for the remainder of fiscal year 2020 (ending September 30, 2020) in the amount of 181,437 metric tons raw value (MTRV). This quantity is in addition to the minimum amount to which the United States is committed under the WTO Uruguay Round Agreements and other trade agreements.

USTR is providing notice that the in-quota quantity of the USMCA TRQ for imported refined sugar from Canada for calendar year 2020 is increased by 36,287 MTRV, which may be supplied on a first-come, first-served basis. Refined sugar imported from Canada pursuant to this notice may be made from non-originating raw sugar. Only refined sugar with a sucrose content, by weight in the dry state, corresponding to a reading of 99.5 degrees polarity or more will be permitted. No certificate for quota eligibility is required for sugar entering under this additional in-quota quantity.

Daniel Watson,
Acting Assistant U.S. Trade Representative for the Western Hemisphere, Office of the United States Trade Representative.

[FR Doc. 2020-14173 Filed 6-30-20; 8:45 am]

BILLING CODE 3290-F0-P